DEPARTMENT OF ENERGY

Federal Energy Regulatory Commission

Combined Notice of Filings #1

July 19, 2006.

Take notice that the Commission received the following electric corporate filings:

Docket Numbers: EC06-126-000; ES06-50-000.

Applicants: Boston Edison Company.

Description: Boston Edison Co submits a supplemental filing in support of its request under section 204 for authorization for $655 million in short term debt financing authorization.

Filed Date: July 12, 2006.

Accession Number: 20060713-0119.

Comment Date: 5 p.m. Eastern Time on Wednesday, August 2, 2006.

Docket Numbers: EC06-135-000; ER01-2398-013.

Applicants: SVMF4, LLC; Liberty Electric Power, LLC; Merrill Lynch Credit Products, LLC.

Description: Liberty Electric Power LLC submits its responses to FERC's Information Request re the application filed on June 22, 2006 seeking prior authorization for the indirect disposition of jurisdictional facilities.

Filed Date: July 13, 2006.

Accession Number: 20060717-0093.

Comment Date: 5 p.m. Eastern Time on Thursday, August 3, 2006.

Take notice that the Commission received the following electric rate filings:

Docket Numbers: ER02-2119-004.

Applicants: Southern California Edison Company.

Description: Southern California Edison Co submits a compliance refund report pursuant to FERC's May 31, 2006 Order.

Filed Date: July 14, 2006.

Accession Number: 20060717-0113.

Comment Date: 5 p.m. Eastern Time on Friday, August 4, 2006.

Docket Numbers: ER03-719-002; ER03-720-002; ER03-721-002.

Applicants: New Athens Generating Company, LLC; New Covert Generating Company, LLC; New Harquahala Generating Company, LLC.

Description: New Athens Generating Co LLC et al submits a corrected version of Sheet A-4, Page 2 of 3 of Attachment A of the Triennial Report that replaces the same sheet filed on June 6, 2006.

Filed Date: July 12, 2006.

Accession Number: 20060713-0106.

Comment Date: 5 p.m. Eastern Time on Friday, July 21, 2006.

Docket Numbers: ER05-69-002.

Applicants: Boston Edison Company.

Description: Boston Edison Co submits its annual informational report updating the status of its long-term transmission projects in compliance with FERC's December 21, 2004 and May 27, 2005 Orders.

Filed Date: July 3, 2006.

Accession Number: 20060713-0086.

Comment Date: 5 p.m. Eastern Time on Monday, July 24, 2006.

Docket Numbers: ER06-723-003.

Applicants: California Independent System Operator Corporation.

Description: California Independent System Operator Corp submits corrected versions of Attachments B & C to their June 12, 2006 compliance filing.

Filed Date: July 13, 2006.

Accession Number: 20060717-0111.

Comment Date: 5 p.m. Eastern Time on Thursday, August 3, 2006.

Docket Numbers: ER06-1013-001.

Applicants: PJM Interconnection, L.L.C.

Description: PJM Interconnection LLC submits a new version of the Interconnection Service Agreement w/Allegheny Energy Supply Company submitted on July 6, 2006.

Filed Date: July 13, 2006.

Accession Number: 20060714-0003.

Comment Date: 5 p.m. Eastern Time on Thursday, August 3, 2006.

Docket Numbers: ER06-1043-001.

Applicants: Midwest Independent Transmission System Operator, Inc.

Description: Midwest Independent Transmission System Operator, Inc. submits a supplement to its May 24, 2006 filing of Amended and Restated Large Generator Interconnection Agreement.

Filed Date: July 14, 2006.

Accession Number: 20060717-0112.

Comment Date: 5 p.m. Eastern Time on Friday, August 4, 2006.

Docket Numbers: ER06-1103-001; ER06-1104-001; ER06-1105-001; ER06-1106-001; ER06-1107-001; ER06-1108-001; ER06-1109-001; ER06-1110-001; ER06-1111-001.

Applicants: Bridgeport Energy, LLC; Casco Bay Energy Company, LLC; Griffith Energy LLC; LSP Arlington Valley, LLC; LSP Mohave, LLC; LSP Morro Bay, LLC; LSP Moss Landing, LLC; LSP Oakland, LLC; LSP South Bay, LLC.

Description: Bridgeport Energy LLC, Casco Bay Energy Co, LLC, Griffith Energy LLC et al submits revised market-based rate schedules to replace rate schedules that were included in the notices of succession.

Filed Date: July 14, 2006.

Accession Number: 20060717-0114.

Comment Date: 5 p.m. Eastern Time on Friday, August 4, 2006.

Docket Numbers: ER06-1152-001.

Applicants: Celeren Corporation.

Description: Celeren Corp submits an amendment to its Petition for Acceptance of Initial Tariff, Waivers and Blanket Authority.

Filed Date: July 13, 2006.

Accession Number: 20060714-0004.

Comment Date: 5 p.m. Eastern Time on Thursday, August 3, 2006.

Docket Numbers: ER06-1234-001.

Applicants: Southern Company Services, Inc.

Description: Southern Company Services, Inc, acting agent for Alabama Power Co, et al, submits revised coversheet to its unexecuted Interconnection Agreement with Longleaf Energy Associates, LLC correcting designation as Service Agreement 476.

Filed Date: July 12, 2006.

Accession Number: 20060713-0088.

Comment Date: 5 p.m. Eastern Time on Wednesday, August 2, 2006.

Docket Numbers: ER06-1243-000.

Applicants: Liberty Power Holdings LLC.

Description: Liberty Power Holdings, LLC submits a petition for acceptance of the initial rate schedule, waivers, and blanket authority.

Filed Date: July 12, 2006.

Accession Number: 20060713-0090.

Comment Date: 5 p.m. Eastern Time on Wednesday, August 2, 2006.

Docket Numbers: ER06-1244-000.

Applicants: Central Maine Power Company.

Description: Central Maine Power Co submits an Executed Large Generator Interconnection Agreement with Rumford Falls Hydro LLC.

Filed Date: July 11, 2006.

Accession Number: 20060719-0061.

Comment Date: 5 p.m. Eastern Time on Tuesday, August 1, 2006.

Docket Numbers: ER06-1247-000.

Applicants: New Harquahala Generating Company, LLC; New Athens Generating Company, LLC, New Covert Generating Company, LLC; millennium Power Partners, L.P.

Description: New Athens Generating Co LLC, New Covert Generating Co, LLC, New Harquahala Generating Co, LLC et al submits revised market-based rate tariffs sheets.

Filed Date: July 12, 2006.

Accession Number: 20060714-0007.

Comment Date: 5 p.m. Eastern Time on Wednesday, August 2, 2006.

Docket Numbers: ER06-1249-000.

Applicants: Southern Company Services, Inc.

Description: Southern Co Services Inc, agent for Alabama Power Co et al submits a rollover service agreement for long-term firm point-to-point transmission service with Exelon Generation Company, LLC.

Filed Date: July 13, 2006.

Accession Number: 20060714-0005.

Comment Date: 5 p.m. Eastern Time on Thursday, August 3, 2006.

Docket Numbers: ER06-1250-000.

Applicants: PJM Interconnection, L.L.C.

Description: PJM Interconnection LLC submits an interconnection service agreement with U.S. General Service Administration White Oak Federal Research Center and Potomac Electric Power Co etc.

Filed Date: July 13, 2006.

Accession Number: 20060714-0103.

Comment Date: 5 p.m. Eastern Time on Thursday, August 3, 2006.

Docket Numbers: ER06-1251-000; ER96-780-000; EC06-81-000.

Applicants: Southern Company Services, Inc.

Description: Southern Company Services, Inc acting as agent for Alabama Power Co et al, submits various administrative amendments to certain rate schedules & tariffs and a notice of cancellation of Transmission Facilities Agreement.

Filed Date: July 13, 2006.

Accession Number: 20060717-0109.

Comment Date: 5 p.m. Eastern Time on Thursday, August 3, 2006.

Docket Numbers: ER06-1252-000.

Applicants: E.ON U.S., LLC.

Description: E.ON US, LLC on behalf of Louisville Gas & Electric Co submits a request to cancel portions of their August 14, 1968 Agreement with Eastern Kentucky Power Coop & a request to amend its interconnection agreement with Eastern Kentucky Power Coop.

Filed Date: July 14, 2006.

Accession Number: 20060718-0077.

Comment Date: 5 p.m. Eastern Time on Friday, August 4, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-11895 Filed 7-25-06; 8:45 am]

BILLING CODE 6717-01-P